DEPARTMENT OF HOMELAND SECURITY

Coast Guard

33 CFR Part 165

[Docket No. USCG-2019-0395]

Safety Zone; Milwaukee Harbor, Milwaukee, WI

AGENCY: Coast Guard, DHS.

ACTION: Notice of enforcement of regulation.

SUMMARY: The Coast Guard will enforce a safety zone on the Milwaukee Harbor in Milwaukee, WI during specified times from June 7, 2019 through August 23, 2019. This action is necessary and intended to protect the safety of life and property on navigable waterways prior to, during, and immediately after fireworks displays. During the enforcement period, entry into, transiting, or anchoring within the safety zone is prohibited unless authorized by the Captain of the Port Lake Michigan or a designated representative. The operator of any vessel in the regulated area must comply with directions from the Patrol Commander or any Official Patrol displaying a Coast Guard ensign.

DATES: The regulations in 33 CFR 165.935 will be enforced at the times specified below in SUPPLEMENTARY INFORMATION from June 7, 2019 through August 23, 2019.

FOR FURTHER INFORMATION CONTACT: If you have questions about this notice of enforcement, call or email marine event coordinator MSTC Kaleena Carpino, Prevention Department, Coast Guard Sector Lake Michigan, Milwaukee, WI; telephone (414) 747-7148, email D09-SMB-SECLakeMichigan-WWM@uscg.mil.

SUPPLEMENTARY INFORMATION: The Coast Guard will enforce the Milwaukee Harbor Safety Zone listed in 33 CFR 165.935 at the following times, for the following events:

(1) Pride Fest Fireworks on June 7, 2019 from 9:30 p.m. through 10:30 p.m.

(2) Polish Fest Fireworks on June 15, 2019 from 10:30 p.m. through 11:30 p.m.

(3) Summerfest Fireworks on June 26, 2019 from 9:30 p.m. through 10:30 p.m.

(4) Festa Italiana Fireworks on July 20 and 21, 2019 from 10:30 p.m. through 11:30 p.m.

(5) German Fest Fireworks on July 26 and 27, 2019 from 10:30 p.m. through 11:30 p.m.

(6) Mexican Fiesta Fireworks on August 23, 2019 from 9 p.m. through 10 p.m.

This action is being taken to provide for the safety of life on navigable waterways of the Milwaukee Harbor, Milwaukee, WI. This safety zone will encompass the waters of Lake Michigan within Milwaukee Harbor including the Harbor Island Lagoon enclosed by a line connecting the following points: Beginning at 43°02′00″ N, 087°53′53″ W; then south to 43°01′44″ N, 087°53′53″ W; then east to 43°01′44″ N, 087°53′25″ W; then north to 43°02′00″ N, 087°53′25″ W; then west to the point of origin. (NAD 83). Entry into, transiting, or anchoring within the safety zone is prohibited unless authorized by the Captain of the Port Lake Michigan or a designated on-scene representative.

This notice of enforcement is issued under authority of 33 CFR 165.935 and 5 U.S.C. 552(a). In addition to this notice of enforcement in the Federal Register, the Coast Guard will provide the maritime community with advance notification of this enforcement period via the Local Notice to Mariners and Broadcast Notice to Mariners. The Captain of the Port Lake Michigan or a designated on-scene representative may be contacted via VHF Channel 16 or at (414) 747-7182.

Dated: May 31, 2019.
Thomas J. Stuhlreyer,
Captain, U.S. Coast Guard, Captain of the Port Lake Michigan.

[FR Doc. 2019-11703 Filed 6-4-19; 8:45 am]

BILLING CODE 9110-04-P